DEPARTMENT OF ENERGY

Extension of Public Comment Period and Additional Public Meeting for the Supplemental Yucca Mountain Rail Corridor and Rail Alignment Environmental Impact Statement

AGENCY: Department of Energy.

ACTION: Notice of public comment period extension and additional public meeting.

SUMMARY: On October 13, 2006, the U.S. Department of Energy (DOE) published an Amended Notice of Intent (71 FR 60484) to expand the scope of the ongoing “Environmental Impact Statement for the Alignment, Construction and Operation of a Rail Line to a Geologic Repository at Yucca Mountain, Nye County, Nevada” (entitled the Supplemental Yucca Mountain Rail Corridor and Rail Alignment EIS) (DOE/EIS-0250F-S2 and EIS-0369), and announced a 45-day public comment period ending on November 27, 2006. Based on input from the public, DOE is now announcing an additional public meeting in Reno, Nevada. The public comment period also is being extended through December 12, 2006. Additionally, DOE has posted graphical representations of the rail routes at the Office of Civilian Radioactive Waste Management Web site http://www.ocrwm.doe.gov under the caption, What's New.

DATES: The additional public meeting in Reno, Nevada will be held on November 27, 2006, from 4 to 7 p.m. The address for this and all other public scoping meetings are provided below under Public Scoping Meetings. The public comment period is extended through December 12, 2006. Comments received after this date will be considered to the extent practicable.

ADDRESSES: Requests for additional information on the Supplemental Yucca Mountain Rail Corridor and Rail Alignment EIS (DOE/EIS-0250F-S2 and EIS-0369) or transportation planning in general should be directed to: Mr. M. Lee Bishop, EIS Document Manager, Office of Logistics Management, Office of Civilian Radioactive Waste Management, U.S. Department of Energy, 1551 Hillshire Drive, M/S 011, Las Vegas, NV 89134, Telephone 1-800-967-3477. Written comments on the scope of the Supplemental Yucca Mountain Rail Corridor and Rail Alignment EIS may be submitted to Mr. M. Lee Bishop at this address, by facsimile to 1-800-967-0739, or via the Internet at http://www.ocrwm.doe.gov under the caption, What's New.

FOR FURTHER INFORMATION CONTACT: For general information regarding the DOE NEPA process contact: Ms. Carol M. Borgstrom, Director, Office of NEPA Policy and Compliance, U.S. Department of Energy, 1000 Independence Ave., SW., Washington, DC 20585, Telephone 202-586-4600, or leave a message at 1-800-472-2756.

Public Scoping Meetings

DOE has scheduled public scoping meetings on the Supplemental Yucca Mountain Rail Corridor and Rail Alignment EIS. In order to facilitate input from the public, comments will also be accepted on the Supplement to the Final Environmental Impact Statement for a Geologic Repository for the Disposal of Spent Nuclear Fuel and High-Level Radioactive Waste at Yucca Mountain, Nye County, NV at these meetings. DOE will have representatives responsible for preparation of both EISs at each of the following meetings to accept comments on either document:

• Washington, District of Columbia, L'Enfant Plaza Hotel, 480 L'Enfant Plaza, SW., October 30, 2006, from 4-7 p.m.

• Amargosa Valley, Nevada. Longstreet Hotel Casino, Nevada State Highway 373, November 1, 2006, from 4-7 p.m.

• Las Vegas, Nevada. Cashman Center, 850 North Las Vegas Blvd., November 2, 2006, from 4-7 p.m.

• Caliente, Nevada. Caliente Youth Center, U.S. 93 North, November 8, 2006, from 6-8 p.m.

• Goldfield, Nevada. Goldfield School Gymnasium, Hall and Euclid, November 13, 2006, from 4-7 p.m.

• Hawthorne, Nevada. Hawthorne Convention Center, 932 E. Street, November 14, 2006, from 4-7 p.m.

• Fallon, Nevada. Fallon Convention Center, 100 Campus Way, November 15, 2006, from 4-7 p.m.

• Reno, Nevada. University of Nevada, Reno, Lawlor Event Center, 1500 N. Virginia St., November 27, 2006, from 4-7 p.m.

Public Reading Rooms

The Notice of Intent published on October 13, 2006 (71 FR 60484) provided an incorrect phone number for the Pahrump Yucca Mountain Information Center. The correct phone number is (775) 751-5817.

Issued in Washington, DC, November 3, 2006.
David R. Hill,
General Counsel.

[FR Doc. E6-19030 Filed 11-8-06; 8:45 am]

BILLING CODE 6450-01-P